NATIONAL SCIENCE FOUNDATION

Proposal Review Panel for Behavioral and Cognitive Sciences; Notice of Meeting

In accordance with the Federal Advisory Committee Act (Pub., L. 92-463 as amended), the National Science Foundation announces the following meeting:

Name: Proposal Review Panel for Behavioral and Cognitive Sciences—The Science of Learning Center (V151598) Temporal Dynamics of Learning Center (TDLC), University of California at San Diego Site Visit (#10747)

Dates & Times: May 20, 2015; 6:00 p.m.-10:00 p.m.; May 21, 2015; 7:30 a.m.-8:30 p.m.; May 22, 2015; 7:30 a.m.-4:00 p.m.

Place: University of California at San Diego, La Jolla, CA 92093.

Type of Meeting: Part Open.

Contact Person: Dr. Soo-Siang Lim, Program Director, Science of Learning Centers Program, Division of Behavioral and Cognitive Science, Room 995, National Science Foundation, 4201 Wilson Boulevard, Arlington, VA 22230, Telephone (703) 292-7878.

Purpose of Meeting: To provide advice and recommendations concerning further support of the SLC program TDLC at the University of California at San Diego.

Agenda:

Wednesday, May 20, 2015.

6:00 p.m.-10:00 p.m. Closed—Briefing of panel

Thursday, May 21, 2015

7:30 a.m.-5:30 p.m. Open—Review of the MRSEC

5:30 p.m.-6:00 p.m. Closed—Executive Session

6:45 p.m.-8:30 p.m. Open—Dinner

Friday, May 22, 2015

7:30 a.m.-10:00 a.m. Closed—Executive Session

10:00 a.m.-4:00 p.m. Closed—Executive Session, Draft and Review Report

Reason for Closing: The work being reviewed during this site visit may include information of a proprietary or confidential nature, including technical information; financial data, such as salaries and personal information concerning individuals associated with the TDLC. These matters are exempt under 5 U.S.C. 552 b(c), (4) and (6) of the Government in the Sunshine Act.

Dated: April 22, 2015.
Suzanne Plimpton,
Acting, Committee Management Officer.

[FR Doc. 2015-09705 Filed 4-24-15; 8:45 am]

BILLING CODE 7555-01-P